GENERAL SERVICES ADMINISTRATION

[Notice-MA-2025-02; Docket No. 2024-0002, Sequence No. 51]

Calendar Year (CY) 2025 Privately Owned Vehicle (POV) Mileage Reimbursement Rates; CY 2025 Standard Mileage Rate for Moving Purposes

AGENCY: Office of Government-wide Policy (OGP), General Services Administration (GSA).

ACTION: Notice.

SUMMARY: GSA is updating the mileage reimbursement rate for privately owned automobiles (POA), airplanes, and motorcycles as required by statute. This information will be available in FTR Bulletin 25-04, which can be found on GSA's website at https://gsa.gov/ftrbulletins.

DATES: Applicability date: This notice applies to travel and relocation performed on or after January 1, 2025, through December 31, 2025.

FOR FURTHER INFORMATION CONTACT: For clarification of content, please contact Mrs. Autumn King, Policy Analyst, Office of Government-wide Policy, Office of Asset and Transportation Management, at 803-944-6487, or by email at travelpolicy@gsa.gov. Please cite Notice of FTR Bulletin 25-04.

SUPPLEMENTARY INFORMATION: GSA is required by statute to set the mileage reimbursement rate for privately owned automobiles (POA) as the single standard mileage rate established by the Internal Revenue Service (IRS). The IRS mileage rate for medical or moving purposes is used to determine the POA rate when a Government-furnished automobile is available and authorized and also represents the privately owned vehicle (POV) standard mileage reimbursement rate for official relocation.

Finally, GSA conducts independent reviews of the cost of travel and the operation of privately owned airplanes and motorcycles on an annual basis to determine their corresponding mileage reimbursement rates. These reviews evaluate various factors, such as the cost of fuel, depreciation of the original vehicle cost, maintenance and insurance, state and Federal taxes, and consumer price index data. FTR Bulletin 25-04 establishes and announces the new CY 2025 POV mileage reimbursement rates for official temporary duty and relocation travel.

This notice is the only notification to agencies of revisions to the POV mileage rates for official travel and relocation, in addition to the changes posted on GSA's website at https://gsa.gov/mileage.

Mehul Parekh,
Acting Associate Administrator, Office of Government-wide Policy.

[FR Doc. 2024-31556 Filed 1-2-25; 8:45 am]

BILLING CODE 6820-14-P